NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: February 25, 2008, 8:30 a.m.-5:30 p.m. and February 26, 2008, 8:30 a.m-2 p.m.

Place: National Science Foundation, 4201 Wilson Boulevard, Arlington, VA 22230.

Building entry badges must be obtained at the above address; the meeting will be held in Room 1235 of the National Science Foundation Building located at 4201 Wilson Boulevard in Arlington, Virginia.

Type of Meeting: Open.

Contact Person: Dr. Margaret E.M. Tolbert, Senior Advisor and Executive Liaison, CEOSE, Office of Integrative Activities, National Science Foundation, 4201 Wilson Boulevard, Arlington, VA 22230. Telephone: (703) 292-8040. mtolbert@nsf.gov.

Minutes: May be obtained from the Executive Liaison at the above address.

Purpose of Meeting: To provide advice and recommendations concerning broadening participation in science and engineering.

Agenda:

Monday, February 25, 2008

Welcome and Opening Statement by the CEOSE Chair; Introductions

Presentations and Discussions:

• Key Points of the Meeting between the CEOSE Chair and the Director of the National Science Foundation.

• NAS Committee on Underrepresented Groups and the Expansion of the Science and Engineering Workforce Pipeline.

• Discussion with the Director of the National Science Foundation.

• The NSF Budget and Its Implications for Broadening Participation and the CEOSE Path Forward.

• The America Competes Act.

• Reports on NSF Advisory Committee Meetings by CEOSE Liaisons.

• Report of the CEOSE Ad Hoc Subcommittee on Strategic Planning.

• Report of the CEOSE Ad Hoc Subcommittee on Broadening Participation.

Tuesday, February 26, 2008

Opening Statement by the CEOSE Chair

Presentations and Discussions:

• Report of the CEOSE Ad Hoc Subcommittee on Persons with Disabilities—Follow-up Actions pertinent to the Mini-Symposium Held on October 15, 2007.

• Report of the CEOSE Ad Hoc Subcommittee on Accountability, Evaluation, and Communications—“Joining Forces to Broaden Participation in Science and Engineering Strategies for Inter-Agency Collaborations”, the Multi-Federal Agency Study.

• Action Items and Recommendations.

• Completion of Unfinished Business.

Dated: February 5, 2008.
Susanne Bolton,
Committee Management Officer.

[FR Doc. E8-2334 Filed 2-7-08; 8:45 am]

BILLING CODE 7555-01-P